FEDERAL ACCOUNTING STANDARDS ADVISORY BOARD

Release of Exposure Draft on Definitional Changes Related to Deferred Maintenance and Repairs: Amending SFFAS 6, Accounting for Property, Plant, and Equipment

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has released an Exposure Draft on Definitional Changes Related to Deferred Maintenance and Repairs: Amending Statement of Federal Financial Accounting Standard 6, Accounting for Property, Plant, and Equipment.

The proposed Exposure Draft represents a first step toward improving reporting on deferred maintenance.

The Exposure Draft is available on the FASAB home page http://www.fasab.gov/exposure.html. Copies can be obtained by contacting FASAB at (202) 512-7350.

Respondents are encouraged to comment on any part of the exposure draft. Written comments are requested by June 25, 2010, and should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pub. L. 92-463.

Dated: May 5, 2010.
Charles Jackson,
Federal Register Liaison Officer.

[FR Doc. 2010-10970 Filed 5-7-10; 8:45 am]

BILLING CODE 1610-02-P